DEPARTMENT OF HEALTH AND HUMAN SERVICES

Announcement of Anticipated Availability of Funds for Family Planning Services Grants

AGENCY: Department of Health and Human Services, Office of the Secretary.

ACTION: Notice; correction.

SUMMARY: The Office of Population Affairs, Office of Public Health and Science, DHHS, published a notice in the Federal Register of Wednesday, July 7, 2004 announcing the anticipated availability of funds for family planning services grants. This notice contained an error. An eligible Population/area was not listed as available for competition in 2005. This document corrects the omission of the Seattle Population/area as competitive in 2005.

FOR FURTHER INFORMATION CONTACT: Susan B. Moskosky, 301-594-4008.

Correction

In the Federal Register of July 7, 2004, FR Doc. 03-15514, on page 41,114, in the second column under II. Award Information, correct the 7th line of the first paragraph to read “planning services grant awards in 17;” and on page 41,115, correct Table I to read:

Table I
States/populations/areas to be served | Approximate funding available | Application due date | Approx. grant funding date
Region I:
Massachusetts | $5,217,000 | 09/01/04 | 01/01/05
Region II:
New York State | 9,635,000 | 03/01/05 | 07/01/05
Puerto Rico | 2,389,000 | 03/01/05 | 07/01/05
Region III:
Washington, DC | 1,053,000 | 09/01/04 | 01/01/05
Region IV:
Kentucky | 5,203,000 | 03/01/05 | 07/01/05
South Carolina | 5,569,000 | 03/01/05 | 07/01/05
Tennessee | 5,914,000 | 03/01/05 | 07/01/05
Region V:
No areas competitive in FY 2005
Region VI:
Arkansas | 3,241,000 | 11/01/04 | 03/01/05
New Mexico | 2,228,000 | 09/01/04 | 01/01/05
Region VII:
Kansas | 2,332,000 | 03/01/05 | 07/01/05
Region VIII:
No areas competitive in FY 2005
Region IX:
Gila River Indian Community | 251,000 | 03/01/05 | 07/01/05
Government of Guam | 452,000 | 03/01/05 | 07/01/05
Republic of Palau | 99,000 | 03/01/05 | 07/01/05
Federated States of Micronesia | 411,000 | 03/01/05 | 07/01/05
Region X:
Idaho | 1,318,000 | 03/01/05 | 07/01/05
Oregon, Multnomah County | 330,000 | 03/01/05 | 07/01/05
Washington, Seattle | 158,450 | 03/01/05 | 07/01/05

Alma L. Golden,
Deputy Assistant Secretary for Population Affairs.

[FR Doc. 04-18284 Filed 8-9-04; 8:45 am]

BILLING CODE 4150-34-P